INTERNATIONAL TRADE COMMISSION

[USITC SE-05-038]

Sunshine Act Meeting Agency Holding the Meeting: United States International Trade Commission

TIME AND DATE: November 8, 2005 at 11 a.m.

PLACE: Room 101, 500 E Street SW., Washington, DC 20436, Telephone: (202) 205-2000.

STATUS: Open to the public.

MATTERS TO BE CONSIDERED: 1. Agenda for future meetings: None

2. Minutes

3. Ratification List

4. Inv. Nos. 701-TA-388-391 and 731-TA-816-821 (Review) (Cut-to-Length Carbon Steel Plate from France, India, Indonesia, Italy, Japan, and Korea)—briefing and vote. (The Commission is currently scheduled to transmit its determination and Commissioners' opinions to the Secretary of Commerce on or before November 21, 2005.)

5. Outstanding action jackets: None

In accordance with Commission policy, subject matter listed above, not disposed of at the scheduled meeting, may be carried over to the agenda of the following meeting.

Issued: October 27, 2005.
By order of the Commission
Marilyn R. Abbott,
Secretary to the Commission.

[FR Doc. 05-21712 Filed 10-27-05; 11:42 am]

BILLING CODE 7020-02-P